ENVIRONMENTAL PROTECTION AGENCY

[FRL-7874-3]

Agency Information Collection Activities; OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1655.05; Regulation of Fuels and Fuel Additives; Detergent Gasoline; in 40 CFR part 80, subpart G; was approved 01/14/2005; OMB Number 2060-0275; expires 01/31/2008.

EPA ICR No. 1230.17; Prevention of Significant Deterioration Non-Attainment Area New Sources Review (Renewal); in 40 CFR 51.160 to 51.166; 40 CFR 52.21; 40 CFR 52.24; was approved 01/25/2005; OMB Number 2060-0003; expires 01/31/2008.

EPA ICR No. 1718.06; Recordkeeping and Reporting for the Fuel Quality Regulations for Diesel Fuel Sold in 2001 & Later Years; for Tax-Exempt (Dyed) Highway Diesel Fuel; & Nonroad Locomotive & Marine Diesel Fuel; in 40 CFR 80.29, 80.240, 80.530-80.532, 80.535-80.536, 80.550-80.555, 80.560-80.561, 80.590-80.594, 80.597, 80.600-80.604, 80.607 and 80.62; was approved 01/07/2005; OMB Number 2060-0308; expires 01/31/2008.

EPA ICR No. 1722.04; Emission Certification and Compliance Requirements for Marine Spark-ignition Engines (Renewal); in 40 CFR part 91, subparts B and C; was approved 01/07/2005; OMB Number 2060-0321; expires 01/31/2008.

EPA ICR No. 2151.01; Obtaining Feedback on Public Involvement Activities and Processes; was approved 01/10/2005; OMB Number 2010-0039; expires 01/31/2008.

EPA ICR No. 1367.07; Regulation of Fuels and Fuel Additives: Gasoline Volatility; in 40 CFR 80.27; was approved 01/19/2005; OMB Number 2060-0178; expires 01/31/2008.

EPA ICR No. 1360.07; Underground Storage Tanks: Technical and Financial Requirements, and State Program Approval Procedures (Renewal); in 40 CFR part 280; 40 CFR part 281; was approved 01/24/2005; OMB Number 2050-0068; expires 01/31/2008.

EPA ICR No. 1189.14; Identification, Listing and Rulemaking Petitions (Renewal); in 40 CFR 260.20-260.22, 40 CFR 260.31-260.33, 40 CFR 261.3(a)-(c), 40 CFR 261.31, 40 CFR 261.35, 40 CFR 261.4; was approved 01/24/2005; OMB Number 2050-0053 expires 01/31/2008.

EPA ICR No. 0820.09; Hazardous Waste Generator Standards; in 40 CFR part 262; was approved 01/31/2005; OMB Number 2050-0035; expires 01/31/2008

EPA ICR No. 1365.07; Asbestos-Containing Materials in Schools Rule and Revised Asbestos Model Accreditation Plan Rule; in 40 CFR part 763, subpart E; was approved 01/31/2005; OMB Number 2070-0091; expires 01/31/2008.

EPA ICR No. 1352.10; Community Right-to-Know Reporting Requirements Under Sections 311 and 312 of the Emergency Planning and Community Right-to-Know Act (EPCRA) (Renewal); in 40 CFR part 370; was approved 01/31/2005; OMB Number 2050-0072; expires 01/31/2008.

EPA ICR No. 0661.08; NSPS for Asphalt Processing and Roofing Manufacture; in 40 CFR part 60, subpart UU; was approved 01/26/2005; OMB Number 2060-0002; expires 01/31/2008.

EPA ICR No. 1051.09; NSPS for Portland Cement Plants; in 40 CFR part 60, subpart F; was approved 01/26/2005; OMB Number 2060-0025; expires 01/31/2008.

Short Term Extensions

EPA ICR No. 2052.01; Information Collection Request for Long Term 1 Enhanced Surface Water Treatment Rule (Final Rule); OMB Number 2040-0229; on 01/27/2005 OMB extended the expiration date to 07/31/2005.

EPA ICR No. 1897.04; Information Requirements for Marine Diesel Engines (Nonroad Large SI Engines and Marine Diesel Engines) (Amendments) (Final Rule); OMB Number 2060-0460; on 01/28/2005 OMB extended the expiration date to 04/30/2005.

Disapproved and Continue

EPA ICR No. 0783.45; Vehicle Emission Certification and Fuel Economy Compliance (Final Rule for Service Information); OMB Number 2060-0104; was withdrawn on 01/14/2005.

Dated: February 10, 2005.
Oscar Morales,
Director, Collection Strategies Division.

[FR Doc. 05-3061 Filed 2-16-05; 8:45 am]

BILLING CODE 6560-50-P